DEPARTMENT OF THE INTERIOR

National Park Service

[NPS-SERO-NCPTT-11571; PPWOCRADS2,PCU00RP14.R50000]

Notice of Meeting Preservation Technology and Training Board

AGENCY: National Park Service, Interior.

ACTION: Notice of Meeting.

SUMMARY: Notice is hereby given in accordance with the Federal Advisory Committee Act (FACA) (5 U.S.C. Appendix (1988)), that the Preservation Technology and Training Board (PTT Board) of the National Center for Preservation Technology and Training, National Park Service, will meet on Wednesday and Thursday, November 28-29, 2012, at the Presidio in San Francisco, California.

The PTT Board was established by Congress to provide leadership, policy advice, and professional oversight to the National Center for Preservation Technology and Training (NCPTT) in compliance with Section 404 of the National Historic Preservation Act of 1966, as amended, (16 U.S.C. 470x-2(e)).

The PTT Board will meet at the Presidio, Long Avenue, Building #989, San Francisco, CA 94129—telephone (318) 356-7444. The meeting will run from 9:00 a.m. to 5:00 p.m. on November 28, 2012, and from 9:00 a.m. to noon on November 29, 2012 (PACIFIC).

The PTT Board's meeting agenda will include: Review and comment on NCPTT FY2012 accomplishments and operational priorities for FY2013; FY2012 and FY2013 National Center budget and initiatives; recent research; and training programs.

The PTT Board meeting is open to the public. Facilities and space for accommodating members of the public are limited; however, visitors will be accommodated on a first-come, first-served basis. Any member of the public may file a written statement concerning any of the matters to be discussed by the PTT Board.

DATES: The Meeting Dates are: November 28, 2012, 9:00 a.m. to 5:00 p.m. and November 29, 2012, 9:00 a.m. to noon, San Francisco, CA 94129 (PACIFIC).

ADDRESSES: The meeting location is: The Presidio, Long Avenue, Building #989, San Francisco, CA 94129.

SUPPLEMENTARY INFORMATION: Persons wishing more information concerning this meeting, or who wish to submit written statements, may contact: Mr. Kirk A. Cordell, Executive Director, National Center for Preservation Technology and Training, National Park Service, U.S. Department of the Interior, 645 University Parkway, Natchitoches, LA 71457; telephone (318) 356-7444. In addition to U.S. Mail or commercial delivery, written comments may be sent by fax to Mr. Cordell at (318) 356-9119. Before including your address, phone number, email address, or other personal identifying information in your comment, you should be aware that your entire comment—including your personal identifying information—may be made publicly available at any time. While you can ask us in your comment to withhold your personal identifying information from public review, we cannot guarantee that we will be able to do so. Minutes of the meeting will be available for public inspection no later than 90 days after the meeting at the office of the Executive Director, National Center for Preservation Technology and Training, National Park Service, U.S. Department of the Interior, 645 University Parkway, Natchitoches, LA 71457; telephone (318) 356-7444.

Dated: November 5, 2012.
Kirk A. Cordell,
Executive Director, National Center for Preservation Technology and Training.

[FR Doc. 2012-27823 Filed 11-15-12; 8:45 am]

BILLING CODE 4312-52-P